DEPARTMENT OF DEFENSE

Office of Secretary

[DoD-2007-OS-0044]

Privacy Act of 1974; Systems of Records

AGENCY: Defense Threat Reduction Agency.

ACTION: Notice to add a system of records.

SUMMARY: The Defense Threat Reduction Agency is proposing to add a system of records to its inventory of record systems subject to the Privacy Act of 1974 (5 U.S.C. 552a), as amended.

DATES: This action will be effective without further notice on June 8, 2007 unless comments are received that would result in a contrary determination.

ADDRESSES: Send comments to the Freedom of Information and Privacy Office, Defense Threat Reduction Agency, 8725 John J. Kingman Road, Fort Belvoir, VA 22060-6201

FOR FURTHER INFORMATION CONTACT: Ms. Brenda Carter at (703) 767-1771.

SUPPLEMENTARY INFORMATION: The Defense Threat Reduction Agency notices for systems of records subject to the Privacy Act of 1974 (5 U.S.C. 552a), as amended, have been published in the Federal Register and are available from the address above.

The proposed system report, as required by 5 U.S.C. 552a(r) of the Privacy Act of 1974, as amended, was submitted on May 2, 2007, to the House Committee on Oversight and Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: May 3, 2007.
L.M. Bynum,
Alternate OSD Federal Register Liaison Officer, Department of Defense.

HDTRA 024

System name:

Recall Roster.

System location:

Defense Threat Reduction Agency, 8725 John J. Kingman Road, Fort Belvoir, VA 22060-6201, and DTRA Field Offices. Official mailing addresses are published as an appendix to the DTRA compilation of systems of records notices.

Categories of individuals covered by the system:

Civilian employees and military personnel, consultants and contractors that are employed with Defense Threat Reduction Agency.

Categories of records in the system:

Individual's name, emergency contact information, organizational and home address, work and home telephone numbers, electronic mail, facsimile, cellular and pager numbers, and related information.

Authority for maintenance of the system:

5 U.S.C. 301, Department Regulations; 10 U.S.C. 136, Under Secretary of Defense for Personnel and Readiness; Executive Order 12656, Assignment of Emergency Preparedness Responsibilities; Presidential Decision Directive 67, Enduring Constitutional Government and Continuity of Government Operations; Federal Preparedness Circular 65, Federal Executive Branch Continuity of Operations; DoD Directive 3020.36, Assignment of National Security Emergency Preparedness (NSEP) Responsibilities to DoD Components; and E.O. 9397(SSN).

Purpose(s):

These records support agency requirements for emergency notification of personnel, development of locator listings, and all other official management functions where personnel and organizational point-of-contact information is required.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses' apply to this system.

Policies and practices for storing, retrieving, accessing, retaining, and disposing of records in the system:

Storage:

Paper records in file folders and electronic storage media.

Retrievability:

Individual's name.

Safeguards:

Buildings are protected by security guards and an intrusion alarm system. Records are maintained in areas accessible only to Defense Threat Reduction Agency personnel on a need-to-know basis. The computer files are required to be password protected. Records are secured in locked or guarded buildings in locked offices, or locked cabinets during non-duty hours. The Information Technology system is installed in the server room which has badge-controlled access as well as server username/password controls.

Retention and disposal:

Records are temporary and destroyed when updated, and upon transfer or separation of an individual.

System manager(s) and address:

Chief Communications Officer, Combating WMD Enterprise, Defense Threat Reduction Agency, 8725 John J. Kingman Road, Fort Belvoir, VA 22060-6201.

Notification procedure:

Individuals seeking to determine whether information about them is contained in this system of records should address written inquiries to the Chief Communications Officer, Combating WMD Enterprise, Defense Threat Reduction Agency, 8725 John J. Kingman Road, Fort Belvoir, VA 22060-6201.

Written requests should contain the individual's full name and duty station.

Record access procedures:

Individuals seeking access to records about themselves should address written inquiries to the Chief Communications Officer, Combating WMD Enterprise, Defense Threat Reduction Agency, 8725 John J. Kingman Road, Fort Belvoir, VA 22060-6201.

Written requests should contain the individual's full name and duty station.

Contesting record procedures:

DTRA rules for accessing records, for contesting contents and appealing initial agency determinations are published in DTRA Instruction 5400.11B; 32 CFR part 318; or may be obtained from the system manager.

Record source categories:

The individual and official personnel office documents containing point-of-contract information.

Exemptions claimed for the system:

None.

[FR Doc. E7-8865 Filed 5-8-07; 8:45 am]

BILLING CODE 5001-06-P